DEPARTMENT OF TRANSPORTATION

Federal Transit Administration

Early Scoping Notice for an Alternatives Analysis of Proposed Transit Improvements in the Regional Connector Transit Corridor of Los Angeles, CA

AGENCY: Federal Transit Administration, DOT.

ACTION: Early Scoping Notice.

SUMMARY: The Federal Transit Administration (FTA) and the Los Angeles County Metropolitan Transportation Authority (LACMTA) issue this early scoping notice to advise other agencies and the public that they intend to explore, in the context of the Council on Environmental Quality's early scoping process, alternative means of improving transit capacity and service in and through the central core of Los Angeles, California. The early scoping process is part of a planning Alternatives Analysis (AA) required by 49 United States Code (U.S.C.) 5309 that will lead to the selection of the alternatives that will be subject to the appropriate environmental process. Early scoping meetings have been planned and are announced below.

The proposed Regional Connector would provide a link connecting several light rail service lines in operation or in construction (i.e., the Metro Gold Line to Pasadena, the Metro Gold Line Eastside Extension, the Metro Blue Line, and the Metro Expo Line). This connection would broaden and improve the region's public transit, mobility, and accessibility. The project study area within which various alternatives will be considered for the Regional Connector is situated in downtown Los Angeles, generally encompassing the area between the 101 Freeway on the north, 9th Street/Los Angeles Street and 7th Street on south, the 110 Freeway on the west, and Alameda Street on the east.

After selection of the alternatives by the LACMTA Board, the alternatives will then be the subject of the appropriate environmental review under the National Environmental Policy Act (NEPA) and the California Environmental Quality Act (CEQA). If the alternatives have significant impacts, an environmental impact statement (EIS), combined with a California environmental impact report (EIR) would be initiated with a Notice of Intent (NOI) in the Federal Register and distribution of a Notice of Preparation (NOP) required under CEQA and final public and agency scoping of the EIS/EIR. In particular, the purpose and need for the project, the range of alternatives to be considered in the EIS/EIR, the environmental and community impacts to be evaluated, and the methodologies to be used, would be subject to public and interagency review and comment, in accordance with 23 U.S.C. 139 and CEQA.

DATES: Written comments on the scope of the planning Alternatives Analysis, including the alternatives to be considered and the impacts to be assessed, should be sent to LACMTA at the address below by November 21, 2007. See ADDRESSES below for the address to which written public comments may be sent. Early scoping meetings to accept public comments on the scope of the Alternatives Analysis will be held on the following dates:

• Tuesday, November 6, 2007, from 11:30 p.m. to 1:30 p.m. Central Library, Meeting Room A, 630 W. 5th St., Los Angeles, CA 90071.

• Wednesday, November 7, 2007, from 6 p.m. to 8 p.m. Japanese American National Museum, 369 East First Street, Los Angeles, CA 90012.

The draft purpose and need for the project and the initial set of alternatives proposed for study will be presented at these meetings. The buildings and facilities used for the scoping meetings are accessible to persons with disabilities. Any individual who requires special assistance, such as a sign language interpreter, to participate in a scoping meeting should contact Ms. Susan Gilmore, LACMTA at 213-922-7287 or Gilmores@metro.net.

Scoping materials will be available at the meetings and are also available on the LACMTA Web site at http://www.metro.net. Hard copies of the scoping materials are available from Ms. Susan Gilmore, LACMTA at 213-922-7287 or Gilmores@metro.net.

An interagency scoping meeting will be held on Tuesday, October 30, 2007, from 12:30 to 2:30 p.m. at LACMTA, One Gateway Plaza, 3rd Floor, Board Overflow Room, Los Angeles, CA 90012. Representatives of Native American tribal governments and of all Federal, State, and local agencies that may have an interest in any aspect of the project will be invited by phone letter, or e-mail.

It should be noted that, in addition to the early scoping meetings described herein, the agency and scoping meetings required under NEPA and CEQA to identify the nature and scope of environmental issues that should be addressed in the EIS/EIR will be held following issuance of the NOI and NOP. The dates and locations for the EIR/EIS scoping meetings will be announced at that time and will be included in the NOI and NOP, which will be distributed in the same manner as this Early Scoping Notice.

ADDRESSES: Written comments on this Early Scoping Notice should be sent to Ms. Dolores Roybal Saltarelli, AICP, Project Manager, Los Angeles County Metropolitan Transportation Authority, One Gateway Plaza, Los Angeles, CA 90012, phone 213-922-3024, e-mail roybald@metro.net. The locations of the early scoping meetings are given above under DATES.

FOR FURTHER INFORMATION CONTACT: Mr. Ray Tellis, Team Leader, Los Angeles Metropolitan Office, Federal Transit Administration, 888 South Figueroa Street, Suite 1850, Los Angeles, CA 90017, phone 213-202-3950, e-mail ray.tellis@dot.gov.

SUPPLEMENTARY INFORMATION:

Early Scoping

The FTA and LACMTA invite all interested individuals and organizations, public agencies, and Native American tribes to comment on the scope of alternatives formulation, including the purpose and need for transit improvements in the corridor, the alternatives to be considered, and the types of impacts to be further evaluated in the planning Alternatives Analysis. Comments at this time should focus on the purpose and need for transit improvements in the corridor; alternatives that may be less costly or have less environmental impacts while achieving similar transportation objectives; and the identification of any significant social, economic, or environmental issues that should be considered in defining a range of alternatives.

Purpose and Need for the Project

The purpose of this project is to improve the region's public transit service and mobility. The project would provide a link connecting the light rail service of the Metro Gold Line to Pasadena, the Metro Gold Line Eastside Extension, the Metro Blue Line and the Metro Expo Line. This link will serve communities across the region, allowing greater accessibility while serving a resurgent downtown Los Angeles. There is a need for transportation improvements within this study area. Originally planned as a northern extension of the Metro Blue Line to Pasadena, the project was deferred due to limited resources. Initial studies were developed and completed in 1994 and are available from LACMTA at One Gateway Plaza, Records Management, Los Angeles, CA 90012. At that time, only the Metro Blue Line and a short segment of the Metro Red Line Subway were in construction or in operation in downtown Los Angeles. By 2007, the Metro rail system had grown substantially, with lines in operation or under construction extending over 60 miles from downtown Los Angeles. The Metro Red Line from 7th Street Metro Center to Union Station currently serves as an interim connection between the Metro Gold Line and Metro Blue Line. With continued expansion and success of the Metro fixed guide-way system, considerations supporting the project's needs are as follows:

• Metro's increased ridership due to an expanding system will create capacity issues on the Metro Red Line Segment between the Metro Gold Line and the Metro Blue Line.

• Improved travel times through the downtown core will attract more riders on the transit system throughout the region.

• The City of Los Angeles has developed a “Centers Concept” Land Use Policy which is transit based.

• There is existing, significant, dense, private and public developments within the study area that are regional activity centers and destinations including City Hall, Disney Hall, Caltrans Headquarters, MOCA, Federal Courts, County Courts, etc..

• Downtown Los Angeles is in the midst of a resurgence that includes the development of dense residential developments in the form of mid-high rise buildings, new entertainment districts including LA Live and the Grand Avenue Plan, and conversion of older underutilized areas into new commercial and residential uses, all in construction within the study area.

• Local planning guidelines and policies are supportive of sustainable public transportation that provides for a walkable, livable City of Los Angeles.

• The City of Los Angeles will experience a significant overall increase in population and job growth over the next 20 years.

• Increased congestion through downtown Los Angeles on the highway network has created support for improved high-capacity transit alternatives.

• Continued expansion of the transit system is creating a demand for increased capacity.

• Improved connectivity of a transit system has significant positive impacts on ridership.

• Improved connectivity of the transit system will improve operations.

Comments on the preliminary purpose and need statements for the proposed project are requested from the public and participating agencies. Comments will be given full consideration.

Alternatives

A broad range of alternatives are being considered in the AA process, including various transit technologies, corridor alignments, configurations and operations, station types and locations, and Transportation Systems Management (TSM) improvements. In addition to these various types of actions, the implications of taking no action (i.e., the “no build” alternative) will be considered in the analysis. The following summarizes the general types of alternatives to be considered in the analysis, understanding that a broad variety of possible alternatives, and combinations thereof, will be initially identified and then undergo evaluation to define the alternatives for advancement to the environmental process. Further description of this process is provided below under FTA Procedures.

Alternative Technologies could include proven transportation systems based such as light rail, bus rapid transit, people movers, or monorail.

Alignment Alternatives include fixed guide-way, street running at-grade systems, aerial and underground configurations, center or side of street operations, and at-grade, off street alignments. Running north to south, alignments could include the use of some combination of Alameda Street, Los Angeles St., Central Avenue, San Pedro St., Main St., Spring St., Broadway, Hill St., Olive St., Grand Avenue, Hope St., Flower St., Figueroa St. Running east to west, alignments could include some combination of Aliso St., Temple St., 1st St., 2nd St., 3rd St., 4th St., 5th St., 6th St., and 7th St. Station Alternatives include variations in the number, interval distance, location, design including whether above ground or below ground and whether stand-alone or integrated as part of another use, and operational characteristics.

No Build Alternative includes only “committed” improvements—in the current Metro Long Range Transportation Plan and the 2030 Southern California Association of Governments Regional Transportation Plan—together with minor transit service expansions and/or adjustments that reflect a continuation of existing service policies. For purposes of the Alternatives Analysis, the major fixed guideway investments under study for the Exposition Transit Corridor Phase 2 and Crenshaw Transit Corridor projects would not be included in the Future No-Build Alternative. The completion of the Metro Rapid Bus Program would be included as well as possible additional feeder bus networks to serve the region's major activity centers.

Transportation System Management (TSM) Alternative enhances the No Build Alternative and emphasizes transportation system upgrades such as intersection improvements, minor road widening, traffic engineering actions, bus route restructuring, shortened bus headways, expanded use of articulated buses, reserved bus lanes, contra-flow lanes for buses and High Occupancy Vehicles (HOVs) on freeways, special bus ramps on freeways, expanded park/ride facilities, express and limited-stop service, signalization improvements, and timed-transfer operations.

In addition to the alternatives described above, other alternatives identified through the early scoping process will be considered for potential inclusion in the Alternatives Analysis. Alternative modes, vertical or horizontal alignments, or station locations may emerge from the early scoping process.

FTA Procedures

Early scoping is an optional element of the National Environmental Policy Act (NEPA) process that is particularly useful in situations where, as here, a proposed action (the locally preferred alternative) has not been identified and alternative modes and major alignment variations are under consideration in a broadly-defined corridor. While NEPA scoping normally follows issuance of a notice of intent, which describes the proposed action, it “may be initiated earlier, as long as there is appropriate public notice and enough information available on the proposal so that the public and relevant agencies can participate effectively.” See the Council on Environmental Quality's “Forty Most Asked Questions Concerning CEQ's National Environmental Policy Act Regulations,” 46 FR 18026, 18030 (1981). In this case, the available information is more than adequate to permit the public and relevant agencies to participate effectively in early scoping and the planning Alternatives Analysis.

LACMTA may seek New Starts funding for the proposed project under 49 U.S.C. § 5309 and will, therefore, be subject to New Starts regulation (49 Code of Federal Regulations [CFR] part 611). The New Starts regulation requires a planning Alternatives Analysis that leads to the selection of a Locally Preferred Alternative by LACMTA and the inclusion of the locally preferred alternative in the long-range transportation plan adopted by the Southern California Association of Governments. The planning Alternatives Analysis will examine alignments, technologies, station locations, costs, funding, ridership, economic development, land use, engineering feasibility, and environmental factors in the corridor. The New Starts regulation also requires the submission of certain project-justification information in support of a request to initiate preliminary engineering, and this information is normally developed during the Alternatives Analysis. After a reduction of alternatives identified in the AA process, if preparation of an environmental impact statement is warranted, an NOI will be published in the Federal Register and the scoping of the EIS/EIR will be completed by soliciting and considering comments on the purpose and need for the proposed action, the range of alternatives to be considered in the EIS/EIR, and the potentially significant environmental and community impacts to be evaluated in the EIS/EIR. Concurrent with publication of the NOI pursuant to NEPA, an NOP will be distributed pursuant to CEQA. In conjunction with this final scoping of the EIS/EIR and consistent with provisions of 23 U.S.C. 139 and CEQA, invitations will be extended to other Federal and non-Federal agencies that may have an interest in this matter to be participating agencies.

A plan for coordinating public and agency participation in the environmental review process and for commenting on the issues under consideration at various milestones of the process will be prepared and posted on the LACMTA Web site at http://www.metro.net/regionalconnector.

Issued on: October 25, 2007.
Leslie T. Rogers,
Regional Administrator, Region IX, Federal Transit Administration.

[FR Doc. E7-21424 Filed 10-30-07; 8:45 am]

BILLING CODE 4910-57-P